DEPARTMENT OF ENERGY

Federal Energy Regulatory Commission

[Project No. 6597-013]

Monadnock Paper Mills, Inc.; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 6597-013.

c. Date filed: July 31, 2012.

d. Applicant: Monadnock Paper Mills, Inc.

e. Name of Project: Monadnock Hydroelectric Project.

f. Location: The existing project is located on the Contoocook River in the towns of Peterborough, Greenfield, Hancock, and Bennington in Hillsborough County, New Hampshire. The project does not affect federal lands.

g. Filed Pursuant to: Federal Power Act, 16 U.S.C. 791(a)-825(r).

h. Applicant Contact: Michelle Hamm, Manager, Environmental Services, Monadnock Paper Mills, Inc.; Antrim Road, P.O. Box 339, Bennington, NH 03442; (603) 588-3311 or mhamm@mpm.com.

i. FERC Contact: Samantha Davidson, (202) 502-6839 or samantha.davidson@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Project Description:

The existing Monadnock Hydroelectric Project consists of four developments, three of which have generating facilities, with a combined installed capacity of 1,889 kilowatts (kW). The average annual generation of the project is 6,100 megawatt-hours. All power generated by the Monadnock Project is used by Monadnock Paper Mill, Inc.'s (MPM) paper production facility. The four developments, from upstream to downstream, are described below.

Powder Mill Development

The existing Powder Mill Development is located at river mile 46.08 of the Contoocook River and consists of: (1) A 366-foot-long, 18.6-foot-high dam consisting of a 228-foot-long gated, concrete gravity spillway with a crest elevation of 675.44 feet National Geodetic Vertical Datum of 1929 (NGVD) and 2-foot-high seasonal flashboards, a 91-foot-long earth embankment with a concrete core wall, and a 47-foot-long earth embankment with a concrete core wall; (2) a 4-foot-wide sluiceway; (3) a 35-foot-long, 15-foot-wide regulating gatehouse structure with a 4-foot-diameter outlet pipe; (4) a 435-acre impoundment with a storage capacity of 1,940 acre-feet and a normal maximum elevation of 677.44 feet NGVD; and (5) appurtenant facilities.

Monadnock Development

The existing Monadnock Development is located 4,200 feet downstream of Powder Mill Development dam and consists of: (1) A 515-foot-long, 22-foot-high dam consisting of a 165-foot-long concrete spillway with a crest elevation of 663.8 feet NGVD and 2-foot-high seasonal flashboards, a 75-foot-long earth embankment with a concrete core wall, a 50-foot-long concrete non-overflow section, a 25-foot-long earth embankment with a concrete core wall, and a 200-foot-long earthen embankment; (2) a 5-acre impoundment with a storage capacity of 240 acre-feet and a normal maximum elevation of 665.8 feet NGVD; (3) a 75-foot-long, 20-foot-wide powerhouse containing one 125-kW turbine-generating unit and one 298-kW turbine-generating unit for a total installed capacity of 423 kW; (4) two 20 to 25-foot-long, 2.3-kV generator leads; (5) a 100-foot-long tailrace; and (6) appurtenant facilities.

Pierce Development

The existing Pierce Development is located 900 feet downstream of the Monadnock Development dam and consists of: (1) A 420-foot-long, 28-foot-high dam that includes a 290-foot-long concrete spillway with a crest elevation of 651.4 feet NGVD and 2-foot-high seasonal flashboards; (2) a 7-acre impoundment with a storage capacity of 51-acre-feet and a normal maximum elevation of 653.4 feet NGVD; (3) a 25 foot long, 35-foot-wide powerhouse containing one 500-kW turbine-generating unit and one 220-kW turbine-generating unit for a total installed capacity of 720 kW; (4) two 15 to 25-foot-long, 2.3-kV generator leads; (5) a 600-foot-long tailrace; and (6) appurtenant facilities.

Paper Mill Development

The existing Paper Mill Development is located 1,140 feet downstream of the Pierce Development dam and consists of: (1) A 280-foot-long, 19-foot-high dam that includes a 142-foot-long concrete gravity spillway with a crest elevation of 625.6 feet NGVD and 2-foot-high seasonal flashboards; (2) a 5-acre impoundment with a storage capacity of 25-acre-feet and a normal maximum elevation of 627.6 feet NGVD; (3) a 300-foot-long power canal and headgate structure leading to a forebay; (4) an intake structure and a 10-foot-diameter, 200-foot-long steel penstock; (5) a generating room located on the lower level of MPM's paper mill facility containing a 746-kW turbine generating unit; (6) a 150-foot-long, 2.3-kV generator lead; (7) a 800-foot-long tailrace; and (8) appurtenant facilities.

The project also includes a 2,190-foot-long, 2.3-kV overhead transmission line interconnecting the generator leads to a 200-foot-long, 23-kV supply bus at MPM's paper mill facility.

The Powder Mill Development operates in a seasonal store and release mode to meet instream flow requirements and downstream demand for hydroelectric generation at MPM's paper mill facility. The Monadnock, Pierce, and Paper Mill developments operate in a run-of-river mode. The existing license requires an instantaneous minimum flow of 13 cubic feet per second (cfs) (or inflow, whichever is less), in the Powder Mill, Monadnock, and Pierce tailraces; and an instantaneous minimum flow of 70 cfs (or the inflow, whichever is less), in the Paper Mill tailrace. MPM proposes to continue operating the project according to the existing minimum flow requirements and maintain the Powder Mill impoundment between elevations 677.44 and 674.44 feet NGVD.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | March 2013.
Commission issues EA | July 2013.
Comments on EA | August 2013.
Modified terms and conditions | October 2013.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Dated: January 17, 2013.
Kimberly D. Bose,
Secretary.

[FR Doc. 2013-01913 Filed 1-29-13; 8:45 am]

BILLING CODE 6717-01-P